DEPARTMENT OF ENERGY

Federal Energy Regulatory Commission

[Docket No. PF06-25-000; Docket No. PF06-26-000]

Jordan Cove Energy Project, L.P.; Pacific Connector Gas Pipeline, L.P.; Notice of Informational Meetings for the Proposed Jordan Cove LNG and Pacific Connector Gas Pipeline Projects

January 8, 2007.

The staff of the Federal Energy Regulatory Commission (FERC or Commission) is issuing this notice to announce the time, dates, and locations of a series of public informational meetings to discuss the environmental review process for the liquefied natural gas (LNG) import terminal proposed by Jordan Cove Energy Project, L.P. in Coos County, Oregon, and the associated 223-mile-long 36-inch-diameter sendout pipeline proposed by Pacific Connector Gas Pipeline, L.P. extending from the LNG terminal, across Coos, Douglas, Jackson, and Klamath Counties, to an interconnection with Pacific Gas and Electric Company facilities near Malin, Oregon. Also participating in the meetings will be staff from agencies that are cooperating with the FERC in the production of an environmental impact statement for the projects, including the U.S. Department of Agriculture Forest Service and the U.S. Department of the Interior Bureau of Land Management.

The meetings will all begin promptly at 6:30 p.m., (PST) (doors will open at about 6 p.m. for sign-in), on the dates below at the following locations:

Tuesday, January 23, 2007

Umpqua Community College, Campus Center Dining Room/Timber Room, 1140 Umpqua College Rd., Roseburg, OR 97470. 541-440-4600.

Wednesday, January 24, 2007

North Bend Community Center, 2222 Broadway St., North Bend, OR 97459. 541-756-8500.

Thursday, January 25, 2007

Red Lion Inn, 200 N. Riverside Ave., Medford, OR 97501. 541-779-5811.

These events are posted on the Commission's calendar located at http://www.ferc.gov/EventCalendar/EventsList.aspx along with other related information. For additional information, please contact the Commission's Office of External Affairs at (202) 502-8004.

Magalie R. Salas,
Secretary.

[FR Doc. E7-437 Filed 1-12-07; 8:45 am]

BILLING CODE 6717-01-P